DEPARTMENT OF HOMELAND SECURITY

Coast Guard

33 CFR Part 117

[Docket No. USCG-2015-0069]

Drawbridge Operation Regulation; Curtis Creek, Baltimore, MD

AGENCY: Coast Guard, DHS.

ACTION: Notice of deviation from drawbridge regulations.

SUMMARY: The Coast Guard has issued a temporary deviation from the operating schedule that governs the draw of the CSX Railroad Bridge, across Curtis Creek, mile 1.3, Baltimore, MD. This temporary deviation allows the swing bridge to remain in the closed to navigation position to facilitate railway tie replacement on the CSX Railroad swing bridge.

DATES: This deviation is effective from 7 a.m. on February 23, 2015 to 4 p.m. on March 20, 2015.

ADDRESSES: The docket for this deviation, [USCG-2015-0069] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Cheryl Collins, Program Manager, Docket Operations, 202-366-9826.

SUPPLEMENTARY INFORMATION: The CSX Corporation, who owns and operates this swing bridge, has requested a temporary deviation from the current operating regulations set out in 33 CFR 117.5 to facilitate railway tie replacement.

Under the regular operating schedule, the CSX Railroad Bridge, mile 1.3, in Baltimore, MD, the draw must open promptly and fully for the passage of vessels when a request or signal to open is given. The draw normally in the open to navigation position and only closes for train crossings or periodic maintenance. The CSX Railroad Bridge, at mile 1.3, across Curtis Creek in Baltimore, MD, has a vertical clearance in the closed position to vessels of 13 feet above mean high water.

Under this temporary deviation, the drawbridge will be maintained in the closed to navigation position but will be able to open for navigation with a 15 to 20 minute advance notice by contacting (410) 916-5045 or utilizing VHF Channel 13 between 11 a.m. to 4 p.m., Monday through Thursdays from February 23, 2015 until March 20, 2015. In accordance with 33 CFR 117.41, the drawbridge will be tended during that time. The bridge will operate under the normal operating schedule at all other times. Emergency openings can be provided with advance notice by contacting (410) 354-1374 or utilizing VHF Channel 13 or 16. There are no alternate routes for vessels transiting this section of the Curtis Creek but vessels may pass before 11 a.m. and after 4 p.m. without advance notice.

Curtis Creek is used by a variety of vessels including military, tugs, commercial, and recreational vessels. The Coast Guard has carefully coordinated the restrictions with these waterway users. The Coast Guard will also inform additional waterway users through our Local and Broadcast Notice to Mariners of the closure periods for the bridge so that vessels can arrange their transits to minimize any impacts caused by the temporary deviation. Mariners able to pass under the bridge in the closed position may do so at any time. Mariners are advised to proceed with caution.

In accordance with 33 CFR 117.35(e), the drawbridge must return to its regular operating schedule immediately at the end of the designated time period. This deviation from the operating regulations is authorized under 33 CFR 117.35.

Dated: February 3, 2015.
James L. Rousseau,
Bridge Program Manager, Fifth Coast Guard District.

[FR Doc. 2015-02966 Filed 2-11-15; 8:45 am]

BILLING CODE 9110-04-P